DEPARTMENT OF ENERGY

Federal Energy Regulatory Commission

Combined Notice of Filings #1

Take notice that the Commission received the following electric rate filings:

Docket Numbers: ER10-2923-006; ER13-1422-008; ER16-454-002; ER18-2448-003; ER20-1648-003.

Applicants: Sunbury Generation LP, Ebensburg Power Company, Seward Generation, LLC, Robindale Retail Power Services, LLC, Inter-Power/AhlCon Partners, L.P.

Description: Triennial Market Power Analysis for Northeast Region of Sunbury Generation LP, et al.

Filed Date: 6/14/21.

Accession Number: 20210614-5175.

Comments Due: 5 p.m. ET 8/13/21.

Docket Numbers: ER19-2722-004.

Applicants: PJM Interconnection, L.L.C.

Description: Motion of PJM Interconnection, L.L.C. submits Extension of Effective Date.

Filed Date: 6/7/21.

Accession Number: 20210607-5188.

Comments Due: 5 p.m. ET 6/18/21.

Docket Numbers: ER20-71-004; ER20-72-004; ER20-75-004; ER20-76-006; ER20-77-004; ER20-79-004.

Applicants: Coachella Hills Wind, LLC, Coachella Wind Holdings, LLC, Oasis Alta, LLC, Painted Hills Wind Holdings, LLC, Tehachapi Plains Wind, LLC, Voyager Wind IV Expansion, LLC.

Description: Notice of Non-Material Change in Status of Coachella Hills Wind, LLC, et al.

Filed Date: 6/14/21.

Accession Number: 20210614-5176.

Comments Due: 5 p.m. ET 7/6/21.

Docket Numbers: ER20-1491-003.

Applicants: Wind Wall 1 LLC.

Description: Notice of Change in Status of Wind Wall 1 LLC.

Filed Date: 6/15/21.

Accession Number: 20210615-5120.

Comments Due: 5 p.m. ET 7/6/21.

Docket Numbers: ER21-2008-000.

Applicants: Louisiana Generating LLC.

Description: Request to Recover Costs Associated with Acting as a Local Balancing Authority of Louisiana Generating LLC.

Filed Date: 5/27/21.

Accession Number: 20210527-5077.

Comments Due: 5 p.m. ET 7/7/21.

Docket Numbers: ER21-2139-000.

Applicants: Florida Power & Light Company.

Description: § 205(d) Rate Filing: FPL & Seminole NITSA No. 162 New Delivery Point to be effective 7/1/2021.

Filed Date: 6/15/21.

Accession Number: 20210615-5118.

Comments Due: 5 p.m. ET 7/6/21.

Docket Numbers: ER21-2140-000.

Applicants: Haystack Wind Project, LLC.

Description: Baseline eTariff Filing: Application for Market-Based Rate Authorization and Requests for Waivers, et al. to be effective 8/16/2021.

Filed Date: 6/15/21.

Accession Number: 20210615-5132.

Comments Due: 5 p.m. ET 7/6/21.

Docket Numbers: ER21-2141-000.

Applicants: Pacific Gas and Electric Company.

Description: § 205(d) Rate Filing: E&P Agreement for Noosa Energy Storage SA 2100 EP-30 to be effective 6/16/2021.

Filed Date: 6/15/21.

Accession Number: 20210615-5134.

Comments Due: 5 p.m. ET 7/6/21.

Docket Numbers: ER21-2142-000.

Applicants: PJM Interconnection, L.L.C.

Description: § 205(d) Rate Filing: Original WMPA, Service Agreement No. 6090; Queue No. AF2-367 to be effective 5/17/2021.

Filed Date: 6/16/21.

Accession Number: 20210616-5025.

Comments Due: 5 p.m. ET 7/7/21.

Docket Numbers: ER21-2143-000.

Applicants: PJM Interconnection, L.L.C.

Description: § 205(d) Rate Filing: Original WMPA, Service Agreement No. 6089; Queue No. AF2-368 to be effective 5/17/2021.

Filed Date: 6/16/21.

Accession Number: 20210616-5029.

Comments Due: 5 p.m. ET 7/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2021.
Debbie-Anne A. Reese,
Deputy Secretary.

[FR Doc. 2021-13163 Filed 6-22-21; 8:45 am]

BILLING CODE 6717-01-P